DEPARTMENT OF THE INTERIOR

Fish and Wildlife Service

[FWS-R6-ES-2017-N066; FXES11130600000-178-FF06E00000]

U.S. Endangered Species; Receipt of Recovery Permit Applications

AGENCY: Fish and Wildlife Service, Interior.

ACTION: Notice of receipt of permit applications; request for comments.

SUMMARY: We, the U.S. Fish and Wildlife Service, invite the public to comment on applications for permits to conduct activities intended to enhance the propagation or survival of endangered species. With some exceptions, the Endangered Species Act (ESA) prohibits certain activities that constitute take of listed species unless a Federal permit is issued that allows such activity. The ESA also requires that we invite public comment before issuing these permits.

DATES: To ensure consideration, we must receive your written comments by October 16, 2017.

ADDRESSES: Requesting Copies of Applications or Public Comments: Copies of applications or public comments concerning any of the applications in this notice may be obtained by any party who submits a written request for a copy of such documents to the following office within 30 days of the date of publication of this notice, subject to the requirements of the Privacy Act (5 U.S.C. 552a) and the Freedom of Information Act (5 U.S.C. 552): Ecological Services, U.S. Fish and Wildlife Service, P.O. Box 25486-DFC, Denver, CO 80225.

Submitting Comments: You may submit comments by one of the following methods. Please specify applicant name(s) and application number(s) to which your comments pertain (e.g., TE-XXXXXX).

• Email: permitsR6ES@fws.gov. Please refer to the respective permit number (e.g., Application No. TE-XXXXXX) in the subject line of your email message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION: We, the U.S. Fish and Wildlife Service (Service), invite the public to comment on applications for permits to conduct activities intended to promote recovery of endangered species. With some exceptions, the ESA prohibits certain activities with endangered species unless a Federal permit allows such activity. The ESA also requires that we invite public comment before issuing these permits.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, Tribal, and Federal agencies and the public to comment on the following applications.

Application number | Applicant | Species | Location | Activity | Type of take | Permit action
TE077684-1 | Memphis Zoological Society, Memphis, TN | Wyoming toad (Anaxyrus baxteri) | TN | Captive propagation, educational display | Capture, handle, captive propagation, and release | Renew
TE6556C-2 | Bowen Collins and Associates, Draper, UT | (Spiranthes diluvialis) Ute ladies'- tresses, Southwestern willow flycatcher (Empidonax traillii extimus) | UT | Survey and monitor | Collect and handle Ute ladies'-tresses; playback calls and disturbance of Southwestern willow flycatcher | Amend
TE26583C-0 | Chicago Botanic Garden, Glencoe, IL | (Sclerocactus wrightiae) Wright fishhook cactus | UT | Survey, monitor, sample | Collection of tissue to investigate genetic diversity and gene flow | New
TE054317-0 | InterWest Wildlife and Ecological Services, Inc., Richmond, UT | Southwestern willow flycatcher (Empidonax traillii extimus) | UT, WY | Survey and monitor | Playback calls and disturbance | New
TE121914-8 | U.S. Geological Survey, Jamestown, ND | Least tern (Sternula antillarum athalassos) | CO, NE, ND, SD, MT | Survey and monitor | Capture, handle, band | Amend
TE26580C-0 | Milu Velardi, Denver, CO | New Mexico meadow jumping mouse (Zapus hudsonius luteus), gray bat (Myotis grisescens), Indiana bat (Myotis sodalis), Virginia big-eared bat (Corynorhinus (=plecotus) townsendii virginianus) | CO, NM for the New Mexico meadow jumping mouse; AL, AR, AZ, CO, CT, DC, DE, FL, GA, IA, IL, IN, KS, KY, LA, MA, MD, ME, MI, MN, MO, MS, MT, NC, ND, NE, NH, NJ, NM, NY, OH, OK, PA, RI, SC, SD, TN, TX, VA, VT, WI, WV, WY for the bats | Survey and monitor for all species; radio tag and band for bats | Capture, handle, band, radio tag, and release for bats; capture, handle for measurements, release for New Mexico meadow jumping mouse | New
TE09941B-2 | Felsburg Holt and Ullevig, Inc., Lincoln, NE | American burying beetle (Nicrophorus americanus), Indiana bat (Myotis sodalis) | NE, SD, KS, OK, TX, MO, AR for American burying beetle; IA, NE for the Indiana bat | Survey and monitor | Capture, handle, mark of American burying beetle; capture, handle, band of Indiana bat | Amend
TE32974C-0 | Central Utah Water Conservancy District, Orem, UT | June sucker (Chasmistes liorus) | UT | Carp removal in Utah Lake to restore vegetative refuge habitat for the June sucker | Capture, immediate release | New
TE67018A-1 | National Park Service, Missouri River National Recreational River, Yankton, SD | Least tern (Sternula antillarum athalassos) | NE | Survey and monitor | Capture, handle, band | Renew
TE210754-1 | Lincoln Children's Zoo, Lincoln, NE | Salt Creek tiger beetle (Cicindeoa nevadica lincolniana) | NE | Captive propagation | Capture, handle, captive propagation, and release | Renew
TE040510-1 | ERO Resources, Denver, CO | Southwestern willow flycatcher (Empidonax traillii extimus) | CO | Survey and monitor | Playback calls and disturbance | Renew

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority:

Section 10(c) of the Endangered Species Act of 1973, as amended (16 U.S.C. 1531 et seq.)

Michael Thabault,
Assistant Regional Director, Mountain-Prairie Region.

[FR Doc. 2017-19401 Filed 9-13-17; 8:45 am]

BILLING CODE 4333-15-P